COMMISSION ON CIVIL RIGHTS

Agenda and Notice of Public Meeting of the Idaho Advisory Committee

Notice is hereby given, pursuant to the provisions of the rules and regulations of the U.S. Commission on Civil Rights, that a conference call of the Idaho State Advisory Committee will convene at 1 p.m. (PST) and adjourn at 2 p.m., Thursday, March 18, 2004. The purpose of the conference call is to discuss the Seattle Commission meeting of February 20, 2004, and the State Advisory Committee Handbook.

This conference call is available to the public through the following call-in number: 1-800-659-8290, access code number 22241918. Any interested member of the public may call this number and listen to the meeting. Callers can expect to incur charges for calls not initiated using the provided call-in number or made over wireless lines, and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Arthur Palacios of the Western Regional Office, (213) 894-3437, by 3 p.m. on Wednesday, March 17, 2004.

The meeting will be conducted pursuant to the provisions of the rules and regulations of the Commission.

Dated at Washington, DC, March 24, 2004.
Dawn Sweet,
Editor.

[FR Doc. 04-5197 Filed 3-8-04; 8:45 am]

BILLING CODE 6335-01-P